DEPARTMENT OF ENERGY

Federal Energy Regulatory Commission

Combined Notice of Filings

Take notice that the Commission has received the following Natural Gas Pipeline Rate and Refund Report filings:

Filings Instituting Proceedings

Docket Numbers: RP14-191-000.

Applicants: Enable Gas Transmission, LLC.

Description: Annual Sligo Lease LUFG Percentage Tracker Tariff Filing of Enable Gas Transmission, LLC.

Filed Date: 11/20/13.

Accession Number: 20131120-5041.

Comments Due: 5 p.m. ET 12/2/13.

Docket Numbers: RP14-192-000.

Applicants: Dominion Transmission, Inc.

Description: DTI—November 20, 2013 Volume 1A Changes to be effective 12/20/2013.

Filed Date: 11/20/13.

Accession Number: 20131120-5051.

Comments Due: 5 p.m. ET 12/2/13.

Docket Numbers: RP14-193-000.

Applicants: Natural Gas Pipeline Company of America.

Description: Natural Gas Pipeline Company of America LLC submits tariff filing per 154.204: Castleton—Negotiated Rate Filing to be effective 11/21/2013.

Filed Date: 11/20/13.

Accession Number: 20131120-5106.

Comments Due: 5 p.m. ET 12/2/13.

Docket Numbers: RP14-194-000.

Applicants: WBI Energy Transmission, Inc.

Description: WBI Energy Transmission, Inc. submits tariff filing per 154.204: 2013 Revised Non-conforming Negotiated Rate SA of Tharaldson Ethanol to be effective 11/14/2013.

Filed Date: 11/20/13.

Accession Number: 20131120-5109.

Comments Due: 5 p.m. ET 12/2/13.

Docket Numbers: RP14-195-000.

Applicants: Great Lakes Gas Transmission Limited Par.

Description: Great Lakes Gas Transmission Limited Partnership submits tariff filing per 154.204: RP13-1367-000 Tariff Compliance Filing to be effective 11/1/2013.

Filed Date: 11/20/13.

Accession Number: 20131120-5126.

Comments Due: 5 p.m. ET 12/2/13.

Docket Numbers: RP14-196-000.

Applicants: Questar Pipeline Company.

Description: Questar Pipeline Company submits tariff filing per 154.204: Questar Pipeline Company FGRP Filing for 2014 to be effective 1/1/2014.

Filed Date: 11/20/13.

Accession Number: 20131120-5128.

Comments Due: 5 p.m. ET 12/2/13.

Docket Numbers: RP14-197-000.

Applicants: Viking Gas Transmission Company.

Description: Viking Gas Transmission Company submits tariff filing per 154.204: Non-Conforming Agreement Wisconsin Gas, LLC to be effective 12/19/2013.

Filed Date: 11/20/13.

Accession Number: 20131120-5149.

Comments Due: 5 p.m. ET 12/2/13.

Docket Numbers: RP14-198-000.

Applicants: Equitrans, L.P.

Description: Notice Regarding Non-Jurisdictional Gathering Facilities of Equitrans, L.P.

Filed Date: 11/20/13.

Accession Number: 20131120-5157.

Comments Due: 5 p.m. ET 12/2/13.

Docket Numbers: RP14-199-000.

Applicants: Iroquois Gas Transmission System, L.P.

Description: Iroquois Gas Transmission System, L.P. submits tariff filing per 154.204: 11/21/13 Negotiated Rates—JP Morgan Ventures (RTS)—6025-26 to be effective 11/21/2013.

Filed Date: 11/21/13.

Accession Number: 20131121-5050.

Comments Due: 5 p.m. ET 12/3/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2013.
Nathaniel J. Davis, Sr.,
Deputy Secretary.

[FR Doc. 2013-28627 Filed 11-27-13; 8:45 am]

BILLING CODE 6717-01-P